DEPARTMENT OF HOUSING AND URBAN DEVELOPMENT

[Docket No. FR-5040-N-02]

Notice of Proposed Information Collection: Comment Request Ginnie Mae Mortgage-Backed Securities Guide 5500.3, Revision 1 (Forms and Electronic Data Submissions)

AGENCY: Office of the President of Government National Mortgage Association (Ginnie Mae), HUD.

ACTION: Notice.

SUMMARY: The proposed information collection requirement described below will be submitted to the Office of Management and Budget (OMB) for review, as required by the Paperwork Reduction Act. The Department is soliciting public comments on the subject proposal.

DATES: Comments Due Date: December 18, 2006.

ADDRESSES: Interested persons are invited to submit comments regarding this proposal. Comments should refer to the proposal by name and/or OMB Control Number and should be sent to: Lillian Deitzer, QDAM, Information Reports Management Officer, Department of Housing and Urban Development, 451 7th Street, SW., L'Enfant Plaza Building, Room 800a, Washington, DC 20410; fax—(202) 708-3135; e-mail—Lillian_L._Deitzer@hud.gov; telephone—(202) 708-2374 (this is not a toll-free number).

FOR FURTHER INFORMATION CONTACT: Debra Murphy, Ginnie Mae, 451 7th Street, SW., Room B-133, Washington, DC 20410; e-mail—Debra_L._Murphy@hud.gov; telephone—(202) 475-4923; fax—(202) 485-0225 (this is not a toll-free number); Victoria Vargas, Ginnie Mae, 451 7th Street, SW., Room B-133, Washington, DC 20410; e-mail—Victoria_Vargas@hud.gov; telephone—(202) 475-6752; fax—(202) 485-0225 (this is not a toll-free number); or the Ginnie Mae Web site at http://www.ginniemae.gov for copies of the proposed forms and other available information.

SUPPLEMENTARY INFORMATION: The Department will submit the proposed information collection to OMB for review, as required by the Paperwork Reduction Act of 1995 (44 U.S.C. Chapter 35, as amended).

This Notice reflects the change in burden hours due to Ginnie Mae consolidating its data collection process for program participants and due to an increase in data reporting requirements as it relates to Ginnie Mae's proposed Home Equity Conversion Mortgages security.

This Notice is soliciting comments from members of the public and affected agencies concerning the proposed collection of information to: (1) Evaluate whether the proposed collection of information is necessary for the proper performance of the functions of the agency, including whether the information will have practical utility; (2) Evaluate the accuracy of the agency's estimate of the burden hours of the proposed collection of information; (3) Enhance the quality, utility, and clarity of the information to be collected; and (4) Minimize the burden of the collection of information on those who are to respond, including through the use of appropriate automated collection techniques or other forms of information technology, e.g., permitting electronic submission of responses.

This Notice also lists the following information:

Title of Proposal: Ginnie Mae Mortgage-Backed Securities Guide 5500.3, Revision 1 (Forms and Electronic Data Submissions).

OMB Control Number, if applicable: 2503-0033.

Description of the need for the information and proposed use: Ginnie Mae's Mortgage-Backed Securities Guide 5500.3, Revision 1 (“Guide”) provides instructions and guidance to participants in the Ginnie Mae Mortgage-Backed Securities (“MBS”) programs (“Ginnie Mae I and Ginnie Mae II”). Participants in the Ginnie Mae I program issue securities backed by single-family or multifamily loans. Participants in the Ginnie Mae II program issue securities backed by single-family loans. The Ginnie Mae II MBS are modified pass-through MBS on which registered holders receive an aggregate principal and interest payment from a central paying agent on all of their Ginnie Mae II MBS. The Ginnie Mae II MBS also allow small issuers who do not meet the minimum dollar pool requirements of the Ginnie Mae I MBS to participate in the secondary mortgage market. In addition, the Ginnie Mae II MBS permit the securitization of adjustable rate mortgages (“ARMs”). Included in the Guide are appendices, forms, and documents necessary for Ginnie Mae to properly administer its MBS programs.

Agency form numbers, if applicable: 11700, 11701, 11702, 11704, 11705, 11706, 11707, 11708, 11709, 11709-A, 11710A, 1710-B, 1710-C, 11710D, 11710E, 11711-A, 11711-B, 11712, 11712-II, 11714, 11714-SN, 11715, 11717, 11717-II, 11720, 1724, 11728, 11728-II, 1731, 11732, 1734, 11747, 11747-II, 11748-A, 11772-II.

Estimation of the total number of hours needed to prepare the information collection, including number of respondents, frequency of response, and hours of response:

Form | Appendix No. | Title | No. of respondents | Frequency of responses per year | Total annual responses | Hours per response | Total annual hours
11700 | II-1 | Letter of Transmittal | 160 | 4 | 640 | 0.033 | 21
11701 | I-1 | Application for Approval FHA Lender and/or Ginnie Mae Mortgage-Backed Securities Issuer | 16 | 1 | 16 | 1.000 | 16
11702 | I-2 | Resolution of Board of Directors and Certificate of Authorized Signatures | 250 | 1 | 250 | 0.080 | 20
11704 | II-2 | Commitment to Guaranty Mortgage-Backed Securities | 160 | 4 | 640 | 0.033 | 21
11705 | III-6 | Schedule of Subscribers and Ginnie Mae Guaranty Agreement | 250 | 1 | 2,012 | 0.005 | 10
11706 | III-7 | Schedule of Pooled Mortgages | 250 | 1 | 2,012 | 0.0075 | 15
11707 | III-1 | Master Servicing Agreement | 250 | 1 | 250 | 0.016 | 4
11708 | V-5 | Document Release Request | 250 | 34 | 8,500 | 0.050 | 425
11709 | III-2 | Master Agreement for Servicer's Principal and Interest Custodial Account | 250 | 1 | 250 | 0.033 | 8
11709-A | I-6 | ACH Debit Authorization | 250 | 1 | 250 | 0.033 | 8
11710A, 1710B, 1710C & 11710E | VI-12 | Issuer's Monthly Accounting Report and Liquidation Schedule | 95 | 1 | 95 | 0.500 | 48
11710 D | VI-5 | Issuer's Monthly Summary Reports | 95 | 1 | 95 | 0.250 | 24
11711A and 11711B | III-5 | Release of Security Interest and Certification and Agreement | 250 | 12 | 24144 | 0.005 | 121
11712, 11712-II, 11717, 11717-II, 1724, 11728, 11728-II, 1731, 1734, 11747, 11747-II, and 11772-II | IV-6, IV-23, V-4, IV-20, IV-8, IV-24, IV-5, IV-22, IV-21, IV-9, IV-10, IV-7 | Ginnie Mae I and II Prospectus Forms | 250 | 12 | 24,144 | 0.133 | 3,211
11714 and 11714SN | VI-10, VI-11 | Issuer's Monthly Remittance Advice and Issuer's Monthly Serial Note Remittance Advice | 250 | 379 | 94,750 | 0.016 | 1,516
11715 | III-4 | Master Custodial Agreement | 250 | 1 | 250 | 0.033 | 8
11720 | III-3 | Master Agreement for Servicer's Escrow Custodial Account | 250 | 1 | 250 | 0.033 | 8
11732 | III-22 | Custodian's Certification for Construction Securities | 75 | 1 | 75 | 0.016 | 1
11748 A | VI-6 | Graduated Payment Mortgage or Growing Equity Mortgage Pool or Loan Package Composition | 46 | 8 | 368 | 0.016 | 6
| IX-1 | Financial Statements and Audit Reports | 250 | 1 | 250 | 1.000 | 250
|  | Mortgage Bankers Financial Reporting Form | 245 | 4 | 980 | 0.500 | 490
| XI-6, XI-8, XI-9 | Soldiers' and Sailors' Quarterly Reimbursement Request and SSCRA Loan Eligibility Information | 68 | 1,245 | 84,660 | 0.033 | 2,794
| VI-2 | Letter for Loan Repurchase | 250 | 12 | 2,376 | 0.030 | 71
| III-21 | Certification Requirements for the Pooling of Multifamily Mature Loan Program | 75 | 1 | 75 | 0.050 | 4
| VI-9 | Request for Reimbursement of Mortgage Insurance Claim Costs for Multifamily Loans | 20 | 1 | 68 | 0.250 | 17
| VII-1 | Collection of Remaining Principal Balances | 250 | 12 | 7,328,856 | 0.004 | 29,315
|  | Data Verification Form | 250 | 2 | 500 | 0.050 | 25
| III-9 | Authorization to Accept Facsimile Signed Correction Request Forms | 41 | 12 | 492 | 0.016 | 8
| III-13 | Electronic Data Interchange System Agreement | 250 | 1 | 250 | 0.166 | 42
| III-14 | Enrollment Administrator Signatories for Issuers and Document Custodians | 250 | 1 | 250 | 0.100 | 25
|  | Corporate Guaranty Agreement | 34 | 1 | 34 | 0.050 | 2
| I-4 | Cross Default Agreement | 71 | 1 | 71 | 0.050 | 4
| VIII-2 | Transfer Agreements | 10 | 1 | 10 | 0.080 | 1
| VIII-3 | Assignment Agreements | 79 | 1 | 10 | 0.130 | 1
| VIII-1 | Acknowledgement Agreement and Accompanying Documents—Pledge of Servicing | 10 | 1 | 10 | 0.083 | 1
| XI-2 | Supervisory Agreement | 10 | 1 | 10 | 0.080 | 1
|  | Ginnie Mae Reporting and Feedback Data Collection | 250 | 12 | 3,000 | 4.304 | 12,912
Total |  |  | 250 | Varies | 7,577,804 | Varies | 38,541

Authority: Section 3506 of the Paperwork Reduction Act of 1995, 44 U.S.C. Chapter 35, as amended.

Dated: October 11, 2006.
Michael J. Frenz,
Executive Vice President, Government National Mortgage Association.

[FR Doc. E6-17288 Filed 10-17-06; 8:45 am]

BILLING CODE 4210-67-P